DEPARTMENT OF COMMERCE

National Oceanic and Atmospheric Administration

[RTID 0648-XD932]

Determination of Overfishing or an Overfished Condition

AGENCY: National Marine Fisheries Service (NMFS), National Oceanic and Atmospheric Administration (NOAA), Commerce.

ACTION: Notice.

SUMMARY: This action serves as a notice that NMFS, on behalf of the Secretary of Commerce (Secretary), has found that California Quillback rockfish and the Queets spring/summer Chinook salmon stock are now overfished; Gulf of Mexico Lane snapper is now subject to overfishing; and Atlantic mackerel and the Klamath River fall-run Chinook salmon stock remain overfished. NMFS, on behalf of the Secretary, is required to provide this notice whenever it determines that a stock or stock complex is subject to overfishing, overfished, or approaching an overfished condition.

FOR FURTHER INFORMATION CONTACT: Diana Perry, (301)-427-7863.

SUPPLEMENTARY INFORMATION: Pursuant to section 304(e)(2) of the Magnuson-Stevens Fishery Conservation and Management Act, 16 U.S.C. 1854(e)(2), NMFS, on behalf of the Secretary, must notify councils, and publish a notice in the Federal Register, whenever it determines that a stock or stock complex is subject to overfishing, overfished, or approaching an overfished condition.

NMFS has determined that the Klamath River fall-run Chinook salmon stock remains overfished and the Queets spring/summer Chinook salmon stock is now overfished. These determinations are based on assessments, completed in 2023, using data from 2020-2022 for the Klamath River fall-run Chinook salmon stock and data from 2019-2021 for the Queets spring/summer Chinook salmon stock. These assessments indicate that the 3-year geometric mean of the annual spawning escapement for each stock is less than each stock's minimum stock size threshold (MSST). NMFS continues to work with the Pacific Fishery Management Council (Pacific Council) to rebuild the Klamath River fall-run Chinook salmon stock and has notified the Pacific Council of the requirement to rebuild the Queets spring/summer Chinook salmon stock.

NMFS has determined that California Quillback rockfish is now overfished. This determination is based on the most recent assessment, completed in 2021 and using data from 2020, which indicates that the spawning stock biomass is less than the MSST. NMFS has notified the Pacific Council of the requirement to rebuild this stock.

NMFS has determined that Atlantic mackerel is still overfished. This determination is based on the most recent assessment, completed in 2023 and using data from 2022, which indicates that the spawning stock biomass is less than the MSST. NMFS continues to work with the Mid-Atlantic Fishery Management Council to rebuild this stock.

NMFS has determined that Gulf of Mexico Lane snapper is now subject to overfishing. Gulf of Mexico Lane snapper was not assessed in 2023, so landings data from 2022 was compared to the overfishing limit to support the status determination of subject to overfishing. NMFS has notified the Gulf of Mexico Fishery Management Council of its requirement to end overfishing.

Dated: June 25, 2024.
Lindsay Fullenkamp,
Acting Director, Office of Sustainable Fisheries, National Marine Fisheries Service.

[FR Doc. 2024-14307 Filed 6-27-24; 8:45 am]

BILLING CODE 3510-22-P